DEPARTMENT OF THE INTERIOR

National Indian Gaming Commission

Agency Information Collection Activities; New Collection: Information Management Standard Assessment Questionnaires

AGENCY: National Indian Gaming Commission, Interior.

ACTION: Second Notice of New Information Collection; request for comments.

SUMMARY: In accordance with the Paperwork Reduction Act of 1995 (PRA), the National Indian Gaming Commission (NIGC or Commission) is providing notice that it is requesting, concurrently with the publication of this notice or soon thereafter, for the Office of Management and Budget (OMB) to review and approve a new information collection.

DATES: The OMB has up to 60 days to approve or disapprove information collection requests, but may respond after 30 days. Therefore, public comments should be submitted to OMB by no later than March 27, 2024, in order to be assured of consideration.

ADDRESSES: Submit comments directly to OMB's Office of Information and Regulatory Affairs, Attn: Policy Analyst/Desk Officer for the National Indian Gaming Commission. Comments can also be emailed to <OIRA_Submission@omb.eop.gov>, include reference to “NIGC PRA New Collection” in the subject line.

FOR FURTHER INFORMATION CONTACT: For further information, including copies of the proposed collections of information and supporting documentation, contact Tim Osumi by email at tim.osumi@nigc.gov, or by telephone at (771) 220-3592; or by fax at (202) 632-7066 (not toll-free numbers). You may also review these information collection requests by going to <https://www.reginfo.gov> (Information Collection Review, Currently Under Review, Agency: National Indian Gaming Commission).

SUPPLEMENTARY INFORMATION:

I. Background

The Indian Gaming Regulatory Act (IGRA), Public Law 100-497, 25 U.S.C. 2701, et seq., was signed into law on October 17, 1988. The IGRA established the National Indian Gaming Commission (NIGC) and outlined a comprehensive framework for the regulation of gaming on Indian lands. Among the IGRA's requirements is that persons who apply for a “key employee” (KE) or “primary management official” (PMO) position at a tribal gaming operation must undergo a background investigation ((§ 2710(b)(2)(F)(i)). Similarly, the IGRA requires that persons who have direct or indirect financial interest in, or management responsibility for, a tribal gaming management contract, must undergo a background investigation and be evaluated for suitability as part of the NIGC's management contract review process ((§ 2711(a), (e)(1)(D)). In keeping with these background investigative statutory requirements, NIGC regulations 25 CFR 522.2(g), 25 CFR 556.4(a)(14), and 25 CFR 537.1(b)(2) stipulate that prospective KEs/PMOs and management contractors must submit their fingerprints to the Federal Bureau of Investigations (FBI) and undergo a criminal history record information (CHRI) check.

Although CHRI checks are integral to the tribal KE/PMO applicant licensing process, tribes do not possess the necessary statutory authority to directly access FBI CHRI for this purpose. The NIGC, as a Federal agency empowered under the IGRA to access CHRI (§§ 2706(b)(3) & (7), 2708), accepts tribal fingerprint submissions and transmits them to the FBI for this purpose. In return, the FBI provides CHRI check results to the NIGC and the NIGC shares these results with the requesting tribe. In this process, the NIGC assumes the role of a CJIS (Criminal Justice Information Services) Systems Agency (CSA), a duly authorized agency on the CJIS network that provides service to criminal justice users with respect to the criminal justice information (from the various systems managed by the Federal Bureau of Investigations (FBI) CJIS Division.

The roles and responsibilities under which the NIGC, FBI, and tribes process CHRI checks are memorialized in Memoranda of Understanding between the FBI and the NIGC and between the NIGC and each requesting tribe. One such responsibility is to monitor the dissemination of CHRI to ensure FBI-compliant privacy and security standards are followed. This responsibility is detailed in FBI CJIS Security Policy, Policy Area 11 (CJISSECPOL 5.11.2) which specifies that the NIGC, as a CSA, is required to establish a process to periodically audit tribes that receive CHRI to ensure compliance with applicable statutes, regulations and policies. To fulfill this obligation, the NIGC has established a CJIS Audit Unit (CAU), which is tasked with coordinating with tribal authorities to ensure that NIGC-disseminated CHRI is handled and managed in accordance with applicable statutes, regulations, and policies.

In performing its oversight duties, the CAU will deploy questionnaires to gather information. This information will be used to assess and document tribal compliance with privacy and security standards and will enable the CAU to identify information management risk factors that may require remediation. Responding to this information collection is voluntary, however, failure to collect this information may impair the NIGC's ability to fulfill its obligations under its MOUs with the FBI and its tribal partners. Indeed, this information collection is a vital tool for the NIGC CAU to perform its function and helps to ensure that the NIGC can continue to support the successful tribal operation of tribal gaming under the IGRA.

II. Data

Title: Information Management Standard Assessment Questionnaires.

OMB Control Number: 3141-xxxx.

Brief Description of Collection:

The collection involves questions that seek information about tribal security and privacy protections governing the processing, handling, and storing of NIGC-disseminated CHRI. The questions closely track the FBI's standard CJIS compliance questionnaires but have been streamlined and adapted to tribal specific standards. The information collected is related to information policies, procedures, and system configurations and includes some type and amount of measurable evidence that confirms their proper implementation.

Respondents: Indian tribal gaming operations.

Estimated Number of Annual Respondents: 140.

Estimated Number of Annual Responses: 140.

Estimated Time per Response: 37.5 minutes.

Frequency of Responses: Annually.

Estimated Total Annual Burden Hours on Respondents: 87.5.

Estimated Total Non-hour Cost Burden: $0.

Edward Simermeyer,
Chairman.

[FR Doc. 2024-03773 Filed 2-23-24; 8:45 am]

BILLING CODE 7565-01-P